DEPARTMENT OF COMMERCE

International Trade Administration

Initiation of Antidumping and Countervailing Duty Administrative Reviews and Request for Revocation in Part

AGENCY: Import Administration, International Trade Administration, Department of Commerce.

ACTION: Notice of initiation of antidumping and countervailing duty administrative reviews and request for revocation in part.

SUMMARY: The Department of Commerce has received requests to conduct administrative reviews of various antidumping and countervailing duty orders and findings with May anniversary dates. In accordance with the Department's regulations, we are initiating those administrative reviews. The Department of Commerce also received a request to revoke one antidumping duty order in part.

EFFECTIVE DATE: June 30, 2004.

FOR FURTHER INFORMATION CONTACT: Holly A. Kuga, Office of AD/CVD Enforcement, Import Administration, International Trade Administration, U.S. Department of Commerce, 14th Street and Constitution Avenue, NW., Washington, DC 20230, telephone: (202) 482-4737.

SUPPLEMENTARY INFORMATION:

Background

The Department has received timely requests, in accordance with 19 CFR 351.213(b)(2002), for administrative reviews of various antidumping and countervailing duty orders and findings with May anniversary dates. The Department also received a timely request to revoke in part the antidumping duty order on Certain Polyester Staple Fiber from the Republic of Korea.

Initiation of Reviews: In accordance with 19 CFR 351.221(c)(1)(i), we are initiating administrative reviews of the following antidumping and countervailing duty orders and findings. We intend to issue the final results of these reviews not later than May 31, 2005.

| Period to be reviewed
Antidumping Duty Proceedings
Belgium:
Stainless Steel Plate in Coils, A-423-808 | 5/1/03-4/30/04.
Ugine & ALZ Belgium
Brazil:
Frozen Concentrated Orange Juice, A-351-605 | 5/1/03-4/30/04.
Citrovita Agro-Industrial Ltda/Cambuhy MC Industrial Ltda/Cambuhy Citrus Comercial e Exportadora
Branco Peres Citrus S.A
Canada:
Certain Softwood Lumber, A-122-838 | 5/1/03-4/30/04.
2 by 4 Lumber Sales Ltd
9027-7971 Quebec Inc. (Scierie Marcel Dumont)
9098-5573 Quebec Inc. (K.C.B. International)
A. L. Stuckless & Sons Limited
Abitibi-Consolidated Company of Canada
Abitibi-Consolidated Inc
Abitibi-LP Engineered Wood Inc
Age Cedar Products
AJ Forest Products Ltd
Alexandre Cote Ltee.
Allmac Lumber Sales Ltd
Allmar International
Alpa Lumber Mills Inc
American Bayridge Corporation
Anderson Wholesale, Inc
Apex Forest Products, Inc
Apollo Forest Products Limited
Aquila Cedar Products Ltd
Arbutus Manufacturing Limited
Armand Duhamel & Fils Inc
Ashley Colter (1961) Limited
Aspen Planers Ltd
Atikokan Forest Products Ltd
Atlantic Pressure Treating Ltd
Atlantic Warehousing Limited
Atlas Lumber (Alberta) Ltd
AWL Forest Products
Bakerview Forest Products Inc
Bardeaux et Cedres St-Honore Inc. (Bardeaux et Cedres)
Barrett Lumber Company
Barrette-Chapais Ltee
Bathurst Lumber (Division of UPM-Kymmene Miramichi Inc.)
Bay Forest Products Ltd
Beaubois Coaticook Inc
Blackville Lumber (Division of UPM-Kymmene Miramichi Inc.)
Blanchette et Blanchette Inc
Bloomfield Lumber Limited
Bois Cobodex (1995) Inc
Bois Daaquam Inc
Bois De L'Est F.B. Inc
Bois Granval G.D.S. Inc
Bois Kheops Inc
Bois Marsoui G.D.S. Inc
Bois Neos Inc
Bois Nor Que Wood Inc
Boisaco Inc
Boscus Canada Inc
Boucher Forest Products Ltd
Bowater Incorporated
Bridgeside Forest Industries, Ltd
Bridgeside Higa Forest Industries Ltd
Brittainia Lumber Company Limited
Brouwer Excavating Ltd
Brunswick Valley Lumber
Buchanan Distribution Inc
Buchanan Lumber
Buchanan Lumber Sales Inc
Buchanan Northern Hardwoods, Inc
Busque & Laflamme Inc
Byrnexco Inc
C.E. Harrison & Son Ltd
Caledon Log Homes (FEWO)
Caledonia Forest Products Ltd
Cambie Cedar Products Ltd
Canadian Lumber Company Ltd
Cando Contracting Ltd
Canex International Lumber Sales Ltd
Canfor Corporation
CanWel Building Materials Ltd
CanWel Distribution Ltd
Cape Cod Wood Siding Inc
Cardinal Lumber Manufacturing & Sales Inc
Careau Bois Inc
Carrier & Begin Inc
Carrier Forest Products Ltd
Carrier Lumber Ltd
Carson Lake Lumber
Cattermole Timber
Cedarland Forest Products Ltd
Cedrico Lumber Inc. (Bois D'Oeuvre Cedrcio Inc.)
Central Cedar, Ltd
Centurion Lumber Manufacturing (1983) Ltd
Chaleur Sawmills
Chasyn Wood Technologies Inc
Cheminis Lumber Inc
Cheslatta Forest Products Ltd
Chisholm's (Roslin) Ltd
Choicewood Products Inc
City Lumber Sales and Services Limited
Clair Industrial Dev. Corp. Ltd
Clermond Hamel Ltee
Coast Clear Wood Ltd
Coast Forest & Lumber Association
Colonial Fence Mfg. Ltd
Columbia Mills Ltd
Comeau Lumber Limited
Commonwealth Plywood Company Ltd
Cooper Creek Cedar Ltd
Cottles Island Lumber Co. Ltd
Council of Forest Industries
Cowichan Lumber Ltd
Crystal Forest Industries Ltd
Curley Cedar Post & Rail
Cushman Lumber Company Inc
D.S. McFall Holdings Ltd
Dakeryn Industries Ltd
Delco Forest Products
Delta Cedar Products
Devlin Timber Company (1992) Limited
Devon Lumber Co. Ltd
Doman Forest Products Limited
Doman Industries Limited
Doman Western Lumber Ltd
Domexport Inc
Domtar Inc
Downie Timber Ltd
Dubreuil Forest Products Limited
Duluth Timber Company
Dunkley Lumber Ltd
E. Tremblay Et. Fils Ltee
Eacan Timber Canada Ltd
Eacan Timber Limited
Eacan Timber USA Ltd
East Fraser Fiber Co. Ltd
Eastwood Forest Products Inc
Ed Bobocel Lumber 1993 Ltd
Edwin Blaikie Lumber Ltd
Elmira Wood Products Limited
Elmsdale Lumber Company Ltd
ER Probyn Export Ltd
Evergreen Empire Mills Incorporated
Excel Forest Products
F.L. Bodogh Lumber Co. Ltd
Falcon Lumber Limited
Faulkner Wood Specialties Limited
Federated Co-operatives Limited
Fenclo Ltee
Finmac Lumber Limited
Fontaine Inc., J.A. and its affiliates Fontaine et fils Inc., Bois Fontaine Inc., Gestion Natanis Inc., Les Placements Jean-Paul Fontaine Ltee
Forstex Industries Inc
Forwest Wood Specialties Inc
Fraser Pacific Forest Products Inc
Fraser Pacific Lumber Company
Fraser Papers Inc
Fraser Pulp Chips Ltd
Frasierview Cedar Products Ltd
Frontier Mills Inc
G.D.S. Valoribois Inc
Gestofor Inc
Gilbert Smith Forest Products Ltd
Gogama Forest Products
Goldwood Industries Ltd
Gorman Bros. Lumber Ltd
Great Lakes MSR Lumber Ltd
Great West Timber Limited
Greenwood Forest Products
Groupe Lebel
H.A. Fawcett & Son Limited
H.J. Crabbe & Sons Ltd
Haida Forest Products Ltd
Hainesville Sawmill Ltd
Harrison's Home Building Centers
Harry Freeman & Son Ltd
Hefler Forest Products Ltd
Hi-Knoll Cedar Inc
Hilmoe Forest Products Ltd
Hoeg Brothers Lumber Ltd
Holdright Lumber Products Ltd
Hudson Mitchell & Sons Lumber Inc
Hughes Lumber Specialties Inc
Hyak Specialty Wood Products Ltd
Industries G.D.S. Inc
Industries Perron Inc
Interior Joinery Ltd
International Forest Products Ltd
Isidore Roy Limited
Ivor Forest Products Ltd
J.A. Turner & Sons (1987) Limited
J.D. Irving, Ltd
J.S. Jones Timber Ltd
Jackpine Engineered Wood Products
Jackpine Forest Products Ltd
Jackpine Group of Companies
Jamestown Lumber Company Limited
Jasco Forest Products Ltd
Jeffery Hanson
Julimar Lumber Co. Limited
Kenora Forest Products Ltd
Kent Trusses Ltd
Kenwood Lumber Ltd
Kispiox Forest Products
Kitwanga Lumber Co. Ltd
Kruger, Inc
La Crete Sawmills Ltd
Lakeburn Lumber Limited
Lakeland Mills Ltd
Landmark Structural Lumber
Landmark Truss & Lumber Inc
Langely Timber Company Ltd
Langevin Forest Products, Inc
Lattes Waska Laths Inc
Lawsons Lumber Company Ltd
Lecours Lumber Co. Limited
Ledwidge Lumber Co., Ltd
Leggett & Platt (B.C.) Ltd
Leggett & Platt Inc
Leggett & Platt Ltd
Les Bois d'Oeuvre Beaudoin & Gauthier Inc
Les Bois S&P Grondin Inc
Les Chantiers Chibougamau Ltee
Les Produits Forestiers D. G. Ltee
Les Produits Forestiers Dube Inc
Les Produits Forestiers F.B.M. Inc
Les Produits Forestiers Latierre
Les Produits Forestiers Maxibois Inc
Les Produits Forestiers Miradas Inc. (Miradas Forest Products Inc.)
Les Scieries Du Lac St-Jean Inc
Les Scieries Jocelyn Lavoie Inc
Leslie Forest Products Ltd
Lignum Ltd
Lindsay Lumber Ltd
Liskeard Lumber Limited
Littles Lumber Ltd
Lonestar Lumber Inc
Long Lake Forest Products Inc
LP Canada Ltd
LP Engineered Wood Products Ltd
Lulumco Inc
Lyle Forest Products Ltd
M & G Higgins Lumber Ltd
M.L. Wilkins & Son Ltd
MacTara Limited
Maibec Industries Inc. (Industries Maibec Inc.)
Manitou Forest Products Ltd
Maple Creek Saw Mills Inc
Marcel Lauzon Inc
Marwood Inc
Marwood Ltd
Materiaux Blanchet Inc
Max Meilleur et Fils Ltee
McCorquindale Holdings Ltd
McKenzie Forest Products Inc
McNutt Lumber Company Ltd
Mercury Manufacturing Inc
Meunier Lumber Company Ltd
MF Bernard Inc
Mid America Lumber
Mid Valley Lumber Specialties Ltd
Midway Lumber Mills Ltd
Mill & Timber Products Ltd
Millar Western Forest Products Ltd
Millco Wood Products Ltd
Miramichi Lumber Products
Mobilier Rustique (Beauce) Inc
Monterra Lumber Mills Limited
Mountain View Specialty Reload Inc
Murray A Reeves Forestry Limited
Murray Bros. Lumber Company Limited
N.F. Douglas Lumber Limited
Nechako Lumber Co., Ltd
Newcastle Lumber Co. Inc
Nexfor Inc
Nexfor Norbord
Nicholson and Cates Limited
Nickel Lake Lumber
Norbord Industries Inc
Norbord Juniper and Norbord's sawmills at La Sarre Senneterre Quebec
NorSask Forest Products Inc
North American Forest Products
North American Forest Products Ltd. (Division Belanger)
North Atlantic Lumber Inc
North Enderby Distribution Ltd. (N.E. Distribution)
North Enderby Timber Ltd
North Pacific
North Shore Timber Ltd
North Star Wholesale Lumber Ltd
Northchip Ltd
Northern Sawmills Inc
Olav Haavaldsrud Timber Company Limited
Olympic Industries Inc
Optibois Inc
P.A. Lumber & Planning Limited
Pacific Lumber Company
Pacific Lumber Remanufacturing Inc
Pacific Northern Rail Contractors Corp
Pacific Specialty Wood Products Ltd. (formerly Clearwood Industries Ltd.)
Pallan Timber Products Ltd
Palliser Lumber Sales Ltd
Paragon Ventures Ltd. (Vernon Kiln and Millwork, Ltd. And 582912 BC, Ltd.)
Parallel Wood Products Ltd
Pastway Planning Limited
Pat Power Forest Products Corporation
Patrick Lumber Company
Paul Valle Inc
Paul Vallee
Peak Forest Products Ltd
Pharlap Forest Products Inc
Pheonix Forest Products Inc
Pope & Talbot, Inc
Porcupine Wood Products Ltd
Portbec Forest Products Ltd.(Les Produits Forestiers Portbec Ltee,)
Portelance Lumber Capreol Ltd
Power Wood Corp
Precibois Inc
Preparabois (2003) Inc
Prime Lumber Limited
Pro Lumber Inc
Produits Forestiers La Tuque Inc
Produits Forestiers Petit Paris Inc
Produits Forestiers Temrex
Promobois G.D.S. Inc
R. Fryer Forest Products Limited
Raintree Forest Products Inc
Raintree Lumber Specialties Ltd
Ramco Lumber Ltd
Redtree Cedar Products Ltd
Redwood Value Added Products Inc
Rembos Inc
Rene Bernard Inc
Ridgewood Forest Products Ltd
Rielly Industrial Lumber Inc
Riverside Forest Products Limited
Rocam Lumber Inc. (Bois Rocam Inc.)
Rojac Cedar Products Inc
Rojac Enterprises Inc
Roland Boulanger & Cie Ltee
Russell White Lumber Limited
Sauder Moldings, Inc. (Ferndale)
Sauder Industries Limited
Scierie A&M St-Pierre Inc
Scierie Adrien Arseneault Ltee
Scierie Alexandre Lemay & Fils Inc
Scierie Chaleur
Scierie Dion et Fils Inc
Scierie Gauthier Ltee
Scierie La Patrie, Inc
Scierie Landrienne Inc
Scierie Lapointe & Roy Ltee
Scierie Leduc, Division of Stadacona Inc
Scierie Nord-Sud Inc. (North-South Sawmill Inc.)
Scierie P.S.E. Inc
Scierie St. Elzear Inc
Scierie Tech Inc
Scieries du Lac St. Jean Inc
Selkirk Specialty Wood Ltd
Sexton Lumber
Seycove Forest Products Limited
Seymour Creek Cedar Products Ltd
Shawood Lumber Inc
Sigurdson Bros. Logging Company Ltd
Sinclar Enterprises Ltd
Slocan Forest Products Limited
Societe en Commandite Scierie Opitciwan
Solid Wood Products Inc
South Beach Trading Inc
South River Planing Mills Inc
South-East Forest Products Ltd
Specialties G.D.S. Inc
Spray Lake Sawmills (1980) Ltd
Spruce Forest Products Ltd
Spruce Products Ltd
St. Anthony Lathing Ltd
Stuart Lake Lumber Co. Ltd
Sunbury Cedar Sales Ltd
SWP Industries Inc
Sylvanex Lumber Products Inc
T.P. Downey & Sons Ltd
Tall Tree Lumber Company
Tarpin Lumber Incorporated
Taylor Lumber Company Ltd
Teal-Jones Group
Teeda Corp
Tembec Inc
Terminal Forest Products Ltd
TFL Forest Ltd
The Pas Lumber Company Ltd
TimberWorld Forest Products Inc
T'loh Forest Products Limited
Tolko Industries Ltd
Top Quality Lumber Ltd
Treeline Wood Products Ltd
Triad Forest Products
Twin Rivers Cedar Products Ltd
Tyee Timber Products Ltd
Uniforet Inc
Usine Sartigan Inc
Usine St. Alphonse, Inc
Vancouver Specialty Cedar Products
Vanderhoof Specialty Wood Products
Vandermeer Forest Products (Canada) Ltd
Vanderwell Contractors (1971) Ltd
Vanport Canada, Co
Vernon Kiln and Millwork, Ltd
W.C. Edwards Lumber
W.I. Woodtone Industries Inc
Welco Lumber Corporation
Weldwood of Canada Ltd
Wentworth Lumber Ltd
Werenham Forest Products
West Bay Forest Products & Manufacturing Ltd
West Can Rail Ltd
West Chilcotin Forest Products Ltd
West Fraser Mills Ltd
West Hastings Lumber Products
Western Commercial Millwork Inc
Weston Forest Corp
West-Wood Industries
Weyerhaeuser Company
White Spruce Forst Products Ltd
Wilfrid Paquet & Fils Ltee
Wilkerson Forest Products Ltd
Williams Brothers Limited
Winnipeg Forest Products, Inc
Woodko Enterprises, Ltd
Woodland Forest Products Ltd
Woodline Forest Products Ltd
Woodtone Industries Inc
Woodwise Lumber Ltd
Wynndel Box & Lumber Co. Ltd
Zelensky Bros. Forest Products
Republic of Korea:
Certain Polyester Staple Fiber, A-580-839 | 5/1/03-4/30/04.
Huvis Corporation
Saehan Industries, Inc
Taiwan:
Certain Circular Welded Carbon Steel Pipe and Tubes, A-583-008 | 5/1/03-4/30/04.
Yieh Phui Enterprise Co., Ltd
Polyester Staple Fiber, A-583-833 | 5/1/03-4/30/04.
Far Eastern Textile Ltd
Stainless Steel Plate in Coils, A-583-830 | 5/1/03-4/30/04.
Ta Chen Stainless Pipe Co., Ltd
Yieh United Steel Corporation
China Steel Corporation
Tang Eng Iron Works
PFP Taiwan Co., Ltd
Yieh Loong Enterprise Co., Ltd
Yieh Trading Co
Goang Jau Shing Enterprise Co., Ltd
Yieh Mau Corporation
Chien Shing Stainless Co., Ltd
East Tack Enterprise Co., Ltd
Shing Shong Ta Metal Ind. Co., Ltd
Sinkang Industries, Ltd
Chang Mien Industries Co., Ltd
Chain Chin Industrial Co., Ltd
Turkey:
Certain Welded Carbon Steel Pipe and Tube, A-489-501 | 5/1/03-4/30/04.
Yucel Boru ve Profil Endustri A.S
Cayirova Boru Sanayi ve Ticaret A.S./affiliates of Yucelboru Ihracat, Ithalat ve Pazarlama A.S. and the Borusan Group

Antifriction bearings proceedings and firms | Period/class or kind
France:
A-427-801 | 5/1/03-4/30/04.
SKF France S.A | Ball and Spherical.
SNR Roulements | Ball.
Weber Kugellager Int | Ball.
Germany:
A-428-802 | 5/1/03-4/30/04.
Gabreuder Reinfort GmbH & Co., KG | Ball.
FAG/INA-Schaeffler KG | Ball.
Paul Mueller Industrie GmbH & Co., KG | Ball.
SKF GmbH | Ball.
Weber Kugellager Int | Ball.
Italy:
A-475-201 | 5/1/03-4/30/04.
FAG Italia S.p.A | Ball.
SKF Industrie S.p.A | Ball.
Weber Kugellager Int | Ball.
Japan:
A-588-804 | 5/1/03-4/30/04.
Asahi Seiko Co. Ltd | Ball.
Koyo Seiko Co., Ltd | Ball.
Nachi-Fujikoshi Corporation | Ball.
Nankai Seiko (SMT) | Ball.
Nippon Pillow Block Sales Co., Ltd | Ball.
NSK Ltd | Ball.
NTN Corporation | Ball.
Osaka Pump Co. Ltd | Ball.
Sapporo Precision Bearings Inc | Ball.
Takeshita Seiko Co., Ltd | Ball.
Singapore:
A-599-801 | 5/1/03-4/30/04.
NMB/Pelmec | Ball.
U.K.:
A-412-801 | 5/1/03-4/30/04.
NSK Bearings Europe | Ball.
SKF Aeroengine Bearings UK (formerly known as Aeorengine Bearings UK or NSK Aerospace) | Ball.
Barden Corp | Ball.
FAG (U.K.) Limited | Ball.

| Period to be reviewed
Countervailing Duty Proceedings
Canada: Certain Softwood Lumber, C-122-839 | 4/1/03-3/31/04
Suspension Agreements: None

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)), and 19 CFR 351.221(c)(1)(i).

Dated: June 25, 2004.
Holly A. Kuga,
Senior Office Director, Office 4 for Import Administration.

[FR Doc. 04-14856 Filed 6-29-04; 8:45 am]

BILLING CODE 3510-DS-P